DEPARTMENT OF TRANSPORTATION

Office of the Secretary

14 CFR Part 234

[Docket No. DOT-RITA-2011-0001]

RIN 2105-AE65

Reporting of Data for Mishandled Baggage and Wheelchairs and Scooters Transported in Aircraft Cargo Compartments; Extension of Compliance Date

AGENCY: Office of the Secretary (OST), Department of Transportation (DOT).

ACTION: Final rule.

SUMMARY: The Department of Transportation is amending its regulations by extending the compliance date of its final rule on reporting of data for mishandled baggage and wheelchairs in aircraft cargo compartments from January 1, 2018 to January 1, 2019. Under that final rule, the mishandled-baggage data that air carriers are required to report changed, from the number of Mishandled Baggage Reports and the number of domestic passenger enplanements to the number of mishandled bags and the number of enplaned bags. The rule also requires separate statistics for mishandled wheelchairs and scooters used by passengers with disabilities and transported in aircraft cargo compartments. This extension is in response to a request by Airlines for America (A4A) and Delta.

DATES: This final rule is effective March 21, 2017.

FOR FURTHER INFORMATION CONTACT: Blane A. Workie, Office of Aviation Enforcement and Proceedings, U.S. Department of Transportation, 1200 New Jersey Ave. SE., Washington, DC 20590, 202-366-9342, 202-366-7152 (fax), blane.workie@dot.gov (email).

SUPPLEMENTARY INFORMATION:

Electronic Access and Filing

A copy of all materials related to the original rulemaking proceeding (2105-AE41) may be viewed online at http://www.regulations.gov using the docket numbers listed above. A copy of this notice will also be placed on the docket. Electronic retrieval help and guidelines are available on the Web site. It is available 24 hours each day, 365 days each year. An electronic copy of this document may also be downloaded from the Office of the Federal Register's Web site at http://www.ofr.gov and the Government Publishing Office's Web site at http://www.gpo.gov.

Background

On November 2, 2016, the Department of Transportation published a final rule in the Federal Register (81 FR 76300) (RIN 2105-AE41), titled “Reporting of Data for Mishandled Baggage and Wheelchairs and Scooters Transported in Aircraft Cargo Compartments.” This rule changes the methodology for the mishandled-baggage data that U.S. air carriers are required to report to the Department and requires U.S. air carriers to report separate statistics in their mishandled baggage reporting for mishandled wheelchairs and scooters used by disabled passengers and transported in aircraft cargo compartments.

On January 20, 2017, the White House Chief of Staff issued a memorandum entitled, “Regulatory Freeze Pending Review” (“Memo”). The Memo directed heads of executive departments and agencies to take certain steps to ensure that the President's appointees and designees have the opportunity to review new and pending regulations. It instructed agencies to temporarily postpone the effective dates of regulations that had been published in the Federal Register, but were not yet effective, until 60 days after the date of the memorandum.

On January 27, 2017, the Department received a request from Airlines for America (A4A) to extend the compliance date of the final rule on reporting data for mishandled baggage and wheelchairs. In that request, the A4A cites the Memo as a reason to extend the compliance date. On February 10, 2017, Delta Air Lines also submitted a request to the Department expressing support for extending the compliance date which also referenced the Memo. On March 2, 2017, A4A sent a follow-up to its original request specifying that if the rulemaking remains that they are requesting that the implementation period of the final rule on mishandled baggage and wheelchairs be delayed one year until January 2019 in the spirit of the Memo. A4A states that industry is facing challenges with parts of this regulation and needs more time to implement it.

After carefully considering the requests, we have decided to grant an extension of the compliance date for the final rule on reporting of mishandled baggage and wheelchairs until January 1, 2019. As such, we also intend to extend the compliance date for the baggage handling statistics provision (14 CFR 234.6) in the final rule titled “Enhancing Airline Passenger Protections III,” which was published contemporaneously with the final rule on reporting of data for mishandled baggage and wheelchairs, to January 1, 2019.

Issued this 2nd day of March 2017 in Washington, DC, under authority delegated in 49 CFR 1.27(n).
Judith S. Kaleta,
Deputy General Counsel.

List of Subjects in 14 CFR Part 234

Air carriers, Mishandled baggage, Ontime statistics, Reporting, Uniform system of accounts.

Accordingly, the Department of Transportation amends 14 CFR part 234 as follows:

PART 234—AIRLINE SERVICE QUALITY PERFORMANCE REPORTS

1. The authority citation for part 234 continues to read as follows:

Authority: 49 U.S.C. 329, 41101, and 41701.

§ 234.6 [Amended]

2. In § 234.6, in paragraphs (a) and (b) introductory text, remove the date “January 1, 2018” and add in its place “January 1, 2019”.

[FR Doc. 2017-04582 Filed 3-20-17; 8:45 am]

BILLING CODE 4910-9X-P